DEPARTMENT OF DEFENSE

Treatment of Proprietary Data

AGENCY: Department of Defense (DoD).

ACTION: Notice of public meeting.

SUMMARY: The Director of Defense Procurement is sponsoring a public meeting to discuss the treatment of proprietary data during all phases of DoD procurements. A background paper to be discussed at the public meeting is available on the Defense Procurement Internet home page at http://www.acq.osd.mil/dp/. If necessary to ensure that all the views of the interested parties have been heard, subsequent public meetings may be held concerning this issue. The dates and times of any subsequent meetings will be published after the initial meeting, on the Defense Procurement Internet home page at http://www.acq.osd.mil/dp/.

DATES: The first meeting will be held on July 26, 2002, from 9 a.m. to 5 p.m, with an hour break for lunch at 12 p.m.

ADDRESSES: The meeting will be held in Room C-43, Crystal Mall, Building 4, 1941 Jefferson Davis Highway, Arlington, VA 22202.

FOR FURTHER INFORMATION CONTACT: Mr. William H. Anderson, Chair, Defense Acquisition Regulations Council Committee on Patents, Data, and Copyrights, by telephone at (703) 588-5090, by fax at (703) 588-8037, or by e-mail at William.Anderson@pentagon.af.mil.

Michele P. Peterson,
Executive Editor, Defense Acquisition Regulations Council.

[FR Doc. 02-17523 Filed 7-11-02; 8:45 am]

BILLING CODE 5001-08-P